DEPARTMENT OF COMMERCE

Bureau of Industry and Security

Emerging Technology and Research Advisory Committee; Notice of Partially Closed Meeting

The Emerging Technology and Research Advisory Committee (ETRAC) will meet on October 23 and 24, 2014, 8:30 a.m., at the University of California, San Diego Supercomputer Center Auditorium, 10100 Hopkins Drive, La Jolla, CA 92093. The Committee advises the Office of the Assistant Secretary for Export Administration on emerging technology and research activities, including those related to deemed exports.

Agenda:

Thursday, October 23:

Closed Session:

Discussion of matters determined to be exempt from the provisions relating to public meetings found in 5 U.S.C. app. 2 §§ 10(a)(1) and 10(a)(3).

Friday, October 24:

Open Session:

1. Welcome Remarks

Dr. Pradeep K. Khosla, Chancellor, University of California-San Diego

2. Introductory Remarks

Tom Tierney, ETRAC Co-Chair

3. Developments in Export Control Reform, Technology and Deemed Export Update, by Assistant Security for Export Administration, Bureau of Industry and Security

4. Status Report: ECCN Review

Review by ETRAC Committee members of their “self-identified” taskings EAR revisions

5. Upcoming Emerging Technologies and Issues for Review:

—Synthetic biology—3D Bioprinting and genetic synthesis and gene editing—industry presentations

—ASTM Standards Development Activities by Pat Picariello, Director of Development Operations

—Report: Intelligence Advanced Research Projects Activity—FUSE application

—Report: Dept. of Defense Better Buying Power 3.0 involving technologies

—Fundamental Research and public domain

—Additive Manufacturing—3D Printed Rocket Engines & DARPA

—Frequently Asked Questions on technology/deemed exports—revision to the EAR

—Exports to Dual-Third Country nationals

—Deemed Re-exports Guidance

—Strategic Trade Authorizations and Deemed Exports

—Harmonization of Definitions on Technology Controls between ITAR and EAR

—Satellite Rule

—Enhancement of the Consolidated Screening Lists

6. Remarks—Roy Paulson—Chair of the Outreach Sub-Committee, President's Export Council Subcommittee on Export Administration and Dr. Carlos Romero—University of New Mexico

Survey on export controls status

7. Public Comments

8. Kevin Pollpeter, Deputy Director, Study of Innovation and Technology in China University of California Institute on Global Conflict and Cooperation

9. Tour of UCSD Supercomputer facilities

10. Administrative Issues

—recruitment status of members and requirements

—schedule of future meeting dates

—ETRAC Charter renewal

—ETRAC Annual Report

11. Conclusion and Final Remarks

The open sessions will be accessible via teleconference to 25 participants on a first come, first serve basis. To join the conference, submit inquiries to Ms. Yvette Springer at Yvette.Springer@bis.doc.gov no later than, October 16, 2014.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

The Assistant Secretary for Administration, with the concurrence of the delegate of the General Counsel, formally determined on October 2, 2014, pursuant to Section 10(d) of the Federal Advisory Committee Act, as amended, that the portion of the meeting dealing with matters the of which would be likely to frustrate significantly implementation of a proposed agency action as described in 5 U.S.C. 552b(c) (9)(B) shall be exempt from the provisions relating to public meetings found in 5 U.S.C. app. 2 §§ 10(a)1 and 10(a)(3). The remaining portions of the meeting will be open to the public.

For more information, call Yvette Springer at (202) 482-2813.

Dated: October 3, 2014.
Yvette Springer,
Committee Liaison Officer.

[FR Doc. 2014-24097 Filed 10-8-14; 8:45 am]

BILLING CODE 3510-JT-P